DEPARTMENT OF DEFENSE

Department of the Army; Corps of Engineers

Notice of Intent To Terminate the Draft Environmental Impact Statement (EIS) for the Potable Water Supply for Washington Parish Reservoir Project

AGENCY: Department of the Army, U.S. Army Corps of Engineers, DOD.

ACTION: Notice of intent.

SUMMARY: The Vicksburg District, Corps of Engineers, is issuing this notice to advise the public that the Draft Environmental Impact Statement (EIS) process for the proposed Potable Water Supply Project for Washington Parish, Louisiana, is terminated. The original Notice of Intent for this EIS process was published in the Federal Register on March 28, 2008 (73 FR 16653).

FOR FURTHER INFORMATION CONTACT: Karen Dove-Jackson at (601) 631-7136, Vicksburg District, Corps of Engineers, 4155 Clay Street, CEMVK-OD-FE, Vicksburg, MS 39183-3435.

SUPPLEMENTARY INFORMATION: The U.S. Army Corps of Engineers, Vicksburg District, has terminated the EIS process begun in March 2008, for the proposed potable water supply project located in Washington Parish.

1. The Washington Parish Reservoir Commission completed a site selection study (January 2005) to determine a recommended best source of future potable water for Washington Parish. The study concluded that the creation of a surface water reservoir by damming Bogalusa Creek was the most desirable alternative. The Washington Parish Reservoir Commission subsequently completed a preliminary engineering report (December 2006) that presented preliminary design, planning level costs estimates, and preliminary construction plans for a water supply reservoir. Based upon review of the information submitted with the permit application, the Corps concluded that the proposed project had the potential for significant impacts to the human and natural environment. The proposed project would impact approximately 826 acres of waters of the United States, including wetlands, which are regulated by the Corps, and require a Department of the Army permit to comply with section 404 of the Clean Water Act. The proposed project would also impact cultural resources, threatened and endangered species, and 65 property owners.

2. A public scoping meeting was held on April 10, 2008. Public notice was given for the time and place of the meeting, and approximately 65 people were in attendance. Coordination with Federal, State and local agencies, and private organizations and citizens was initiated, to ensure that the full range of issues related to the proposed action would be addressed and all issues identified.

3. Due to substantial modifications to the originally submitted application for a Department of the Army section 404 permit, and significant changes to the scope of the proposed project, the permit application has been withdrawn and the EIS process has been terminated.

Dated: July 1, 2009.
Michael C. Wehr,
Colonel, Corps of Engineers, District Commander.

[FR Doc. E9-16344 Filed 7-9-09; 8:45 am]

BILLING CODE 3720-58-P